DEPARTMENT OF COMMERCE

National Oceanic and Atmospheric Administration

50 CFR Part 679

RIN 0648-XL60

Fisheries of the Exclusive Economic Zone Off Alaska; Loan Program for Crab Quota Share; Amendment 33

AGENCY: National Marine Fisheries Service (NMFS), National Oceanic and Atmospheric Administration (NOAA), Commerce.

ACTION: Final rule: agency decision.

SUMMARY: NMFS announces the approval of Amendment 33 to the Fishery Management Plan for Bering Sea/Aleutian Islands King and Tanner Crabs (FMP). Amendment 33 amends the FMP to allow NMFS to reduce the amount of fees collected under the Crab Rationalization Program to the amount needed to finance the Federal loan program for quota share purchase. The amendment provides NMFS with the flexibility to reserve only the amount of fees necessary to support the loan program, including no fees if none are needed. This FMP amendment does not require modifications to Federal regulations.

DATES: This agency decision is effective on August 24, 2009.

ADDRESSES: Electronic copies of Amendment 33 and the Categorical Exclusion for this action may be obtained from the NMFS Alaska Region website at http://alaskafisheries.noaa.gov/.

FOR FURTHER INFORMATION CONTACT: Jeff Hartman, 907-586-7442.

SUPPLEMENTARY INFORMATION: The Magnuson-Stevens Fishery Conservation and Management Act (Magnuson-Stevens Act) requires that each regional fishery management council submit any fishery management plan amendment it prepares to NMFS for review and approval, disapproval, or partial approval by the Secretary of Commerce. The Magnuson-Stevens Act also requires that NMFS, upon receiving a fisheries management plan amendment, immediately publish a notice in the Federal Register announcing that the amendment is available for public review and comment.

In April 2008, the North Pacific Fishery Management Council (Council) unanimously recommended Amendment 33, and on May 19, 2009, submitted Amendment 33 to the Fishery Management Plan for Bering Sea/Aleutian Islands King and Tanner Crabs (FMP) to NMFS. The notice of availability (NOA) for Amendment 33 was published in the Federal Register on June 1, 2009 (74 FR 26183). The public comment period closed on July 31, 2009. NMFS received no comments on the proposed amendment.

Amendment 33 allows NMFS to reduce the amount of fees collected under the Crab Rationalization Program to the amount needed to finance the Federal loan program for quota share purchase. This action allows NMFS to reserve only the amount of fees necessary to support the loan program, including no fees if none are needed. This action is necessary to ensure that fishery participants do not pay fees for loan program financing in excess of the fees needed to support the loan program. For more information on Amendment 33 a detailed description is available in the NOA.

A Categorical Exclusion was prepared for Amendment 33 concluding that the amendment will not result individually or cumulatively in significant impacts on the quality of the human environment (see ADDRESSES).

Authority: 16 U.S.C. 1801 et seq.

Dated: August 24, 2009.
James W. Balsiger,
Acting Assistant Administrator for Fisheries, National Marine Fisheries Service.

[FR Doc. E9-21074 Filed 8-31-09; 8:45 am]

BILLING CODE 3510-22-S